DEPARTMENT OF DEFENSE

Department of the Army; Corps of Engineers

Board on Coastal Engineering Research

AGENCY: Department of the Army, DoD.

ACTION: Notice of Advisory Committee meeting.

SUMMARY: The Department of the Army is publishing this notice to announce the following Federal advisory committee meeting of the Board on Coastal Engineering Research. This meeting is open to the public.

DATES: The Board on Coastal Engineering Research will meet from 9:30 a.m. to 5:00 p.m. on August 25, 2020 and reconvene from 9:30 a.m. to 3:45 p.m. on August 26, 2020 Central Time Zone. The Executive Session of the Board will convene from 4:00 p.m. to 5:00 p.m. on August 26, 2020. All sessions are open to the public and are held in Central Time Zone.

ADDRESSES: The meetings will be held by videoconference/teleconference. To participate in the meeting, see the Meeting Accessibility section for instructions. For more information about the Board, please visit https://www.erdc.usace.army.mil/CHL/CERB/.

FOR FURTHER INFORMATION CONTACT: Dr. Julie Dean Rosati Designated Federal Officer (DFO), U.S. Army Engineer Research and Development Center, Waterways Experiment Station, Coastal and Hydraulics Laboratory, 3909 Halls Ferry Road, Vicksburg, MS 39180-6199, phone (202) 761-1850, or Julie.D.Rosati@usace.army.mil.

SUPPLEMENTARY INFORMATION: The meeting is being held under the provisions of the Federal Advisory Committee Act (FACA) of 1972 (5 U.S.C., Appendix, as amended), the Government in the Sunshine Act of 1976 (5 U.S.C. 552b, as amended), and 41 CFR 102-3.150. The Board on Coastal Engineering Research provides broad policy guidance and reviews plans for the conduct of research and the development of research projects in consonance with the needs of the coastal engineering field and the objectives of the U.S. Army Chief of Engineers.

Purpose of the Meeting: The theme of the meeting is “Compound Flooding, Multiple Hazards & Increasing Risk.” The purpose of the meeting is to identify Corps coastal research priorities related to present and future compound flooding and multiple, coincident hazards that increase coastal risk.

Agenda: On Tuesday morning, August 25, 2020, panel presentations will address Compound Flooding/Threats. Presentations will include: Numerical Advancements, Levee Overtopping, and Compound Flooding; Compound Flooding Issues and Advancements; Compounding Cultural and Social Issues within a Flood/Storm Decision-Framework; and Compounding Risk with Multi-Hazards. The afternoon panel entitled Physical and Field Facilities Addressing Compound Phenomenon will include the following presentations: River loading to coastal zone and Low Sill Model; and Current Status and Future of Coastal Physical Modeling at CHL. The day will end with a virtual tour of CHL Physical/Field Facilities.

On Wednesday morning, August 26, 2020, the Board will reconvene to discuss Delivering Technology to the Field. Presentations include: CHL's Technology Transfer Plan; Research to Tech Transfer: Unmanned Aerial Systems and Mini-Argus; USCRP multi-agency/academic/stakeholder collaborative coastal research program. After lunch the last panel session entitled Future Research Needs in Compounding Risks will have presentation on: Academic Perspective; Research Needs in Probability Science to Estimate Compound Risk; and Strategic Target/Focus Area in Compound Flooding and Research Needed to Advance State of Science.

The Board will meet in Executive Session to discuss ongoing initiatives and future actions on Wednesday afternoon, August 26, 2020 from 4:00pm to 5:00pm.

Meeting Accessibility: Pursuant to 5 U.S.C. 552b, as amended, and 41 CFR 102-3.140 through 102-3.165 and subject to the availability of space, the meeting is open online to the public from 9:30 a.m. to 5:00 p.m. daily. Persons desiring to participate in the meeting online or by phone are required to submit their name, organization, email and telephone contact information to Ms. Tanita Warren at Tanita.S.Warren@usace.army.mil no later than Thursday, August 20, 2020. Specific instructions, both for online or teleconference participation in the meeting, will be provided by reply email. The meeting agenda will be available prior to the meeting on the Board's website at: https://www.erdc.usace.army.mil/CHL/CERB/

Oral participation by the public is scheduled for 2:30 p.m. on Wednesday, August 26, 2020. For additional information about public access procedures, please contact Dr. Julie Dean Rosati, the Board's DFO, at the email address or telephone number listed in the FOR FURTHER INFORMATION CONTACT section.

Registration: It is encouraged for individuals who wish to attend the meeting of the Board to register with the DFO by email, the preferred method of contact, no later than August 20, 2020, using the electronic mail contact information found in the FOR FURTHER INFORMATION CONTACT section. The communication should include the registrant's full name, title, affiliation or employer, email address, and daytime phone number. If applicable, include written comments or statements with the registration email.

Written Comments and Statements: Pursuant to 41 CFR 102-3.015(j) and 102-3.140 and section 10(a)(3) of the FACA, the public or interested organizations may submit written comments or statements to the Board, in response to the stated agenda of the open meeting or in regard to the Board's mission in general. Written comments or statements should be submitted to Dr. Julie Dean Rosati, DFO, via electronic mail, the preferred mode of submission, at the address listed in the FOR FURTHER INFORMATION CONTACT section. Each page of the comment or statement must include the author's name, title or affiliation, address, and daytime phone number. The DFO will review all submitted written comments or statements and provide them to members of the Board for their consideration. Written comments or statements being submitted in response to the agenda set forth in this notice must be received by the DFO at least five business days prior to the meeting to be considered by the Board. The DFO will review all timely submitted written comments or statements with the Board Chairperson and ensure the comments are provided to all members of the Board before the meeting. Written comments or statements received after this date may not be provided to the Board until its next meeting.

Verbal Comments: Pursuant to 41 CFR 102-3.140d, the Board is not obligated to allow a member of the public to speak or otherwise address the Board during the meeting. Members of the public will be permitted to make verbal comments during the Board meeting only at the time and in the manner described below. If a member of the public is interested in making a verbal comment at the open meeting, that individual must submit a request, with a brief statement of the subject matter to be addressed by the comment, at least five business days in advance to the Board's DFO, via electronic mail, the preferred mode of submission, at the address listed in the FOR FURTHER INFORMATION CONTACT section. The DFO will log each request, in the order received, and in consultation with the Board Chair, determine whether the subject matter of each comment is relevant to the Board's mission and/or the topics to be addressed in this public meeting. A 30-minute period near the end of the meeting will be available for verbal public comments. Members of the public who have requested to make a verbal comment, and whose comments have been deemed relevant under the process described above, will be allotted no more than five minutes during this period, and will be invited to speak in the order in which their requests were received by the DFO.

Brenda S. Bowen,
Army Federal Register Liaison Officer.

[FR Doc. 2020-15862 Filed 7-21-20; 8:45 am]

BILLING CODE 3720-58-P